DEPARTMENT OF HOMELAND SECURITY

Federal Emergency Management Agency

[Docket ID FEMA-2012-0003; Internal Agency Docket No. FEMA-B-1275]

Proposed Flood Hazard Determinations

AGENCY: Federal Emergency Management Agency, DHS.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before March 11, 2013.

ADDRESSES: The Preliminary FIRM, and where applicable, the FIS report for each community are available for inspection at both the online location and the respective Community Map Repository address listed in the tables below. Additionally, the current effective FIRM and FIS report for each community are accessible online through the FEMA Map Service Center at www.msc.fema.gov for comparison.

You may submit comments, identified by Docket No. FEMA-B-1275, to Luis Rodriguez, Chief, Engineering Management Branch, Federal Insurance and Mitigation Administration, FEMA, 500 C Street SW., Washington, DC 20472, (202) 646-4064, or (email) Luis.Rodriguez3@fema.dhs.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and also are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at http://floodsrp.org/pdfs/srp_fact_sheet.pdf.

The watersheds and/or communities affected are listed in the tables below. The Preliminary FIRM, and where applicable, FIS report for each community are available for inspection at both the online location and the respective Community Map Repository address listed in the tables. Additionally, the current effective FIRM and FIS report for each community are accessible online through the FEMA Map Service Center at www.msc.fema.gov for comparison.

Community | Community Map Repository Address
Nantucket County, Massachusetts (All Jurisdictions)
Maps Available for Inspection Online at: http://www.starr-team.com/starr/RegionalWorkspaces/RegionI/NantucketCountyMAcoastal/SitePages/Home.aspx
Town of Nantucket | Town Hall, 16 Broad Street, Nantucket, MA 02554.
City of Carson City, Nevada (Independent City)
Maps Available for Inspection Online at: http://www.r9map.org/Pages/countyPage.aspx?choLoco=90&choProj=
City of Carson City | Permit Center, 108 East Proctor Street, Carson City, NV 89701.
Russell County, Alabama, and Incorporated Areas
Maps Available for Inspection Online at: http://www.adeca.alabama.gov/Divisions/owr/floodplain/Pages/County-Status.aspx
City of Phenix City | City Hall, 601 12th Street, Phenix City, AL 36867.
Unincorporated Areas of Russell County | Russell County Courthouse, 501 14th Street, Phenix City, AL 36867.
Santa Clara County, California, and Incorporated Areas
Maps Available for Inspection Online at: http://www.r9map.org/Pages/countyPage.aspx?choLoco=43&choProj=271
City of Campbell | Planning Department, 70 North First Street, Campbell, CA 95008.
City of Milpitas | Engineering Division, 455 East Calaveras Boulevard, Milpitas, CA 95035.
City of San Jose | Department of Public Works, 200 East Santa Clara Street Tower, 3rd Floor, San Jose, CA 95113.
City of Santa Clara | Planning and Inspection Department, 1500 Warburton Avenue, Santa Clara, CA 95050.
City of Saratoga | Planning Department, 13777 Fruitvale Avenue, Saratoga, CA 95070.
Town of Los Gatos | Engineering Services, 110 East Main Street, Los Gatos, CA 95030.
Unincorporated Areas of Santa Clara County | Santa Clara Office of Planning, 70 West Hedding Street, San Jose, CA 95110.
Manatee County, Florida, and Incorporated Areas
Maps Available for Inspection Online at: http://www.bakeraecom.com/index.php/florida/manatee
City of Bradenton Beach | City Hall, 107 Gulf Drive North, Bradenton Beach, FL 34217.
City of Holmes Beach | City Hall, 5801 Marina Drive, Holmes Beach, FL 34217.
Town of Longboat Key | Town Hall, 501 Bay Isles Road, Longboat Key, FL 34228.
Ohio County, Indiana, and Incorporated Areas
Maps Available for Inspection Online at: http://www.in.gov/dnr/water/6573.htm
City of Rising Sun | City Hall, 200 North Walnut Street, Rising Sun, IN 47040.
Unincorporated Areas of Ohio County | Ohio County Courthouse, 413 Main Street, Rising Sun, IN 47040.
Owen County, Indiana, and Incorporated Areas
Maps Available for Inspection Online at: http://www.in.gov/dnr/water/7357.htm
Town of Gosport | Town Hall, 13 South 3rd Street, Gosport, IN 47433.
Town of Spencer | Building Department, Municipal Building, 90 North West Street, Spencer, IN 47460.
Unincorporated Areas of Owen County | Owen County Building Department, Owen County Courthouse, 60 South Main Street, Spencer, IN 47460.
Rush County, Indiana, and Incorporated Areas
Maps Available for Inspection Online at: http://www.in.gov/dnr/water/6672.htm
City of Rushville | Rush County Courthouse, Area Plan Commission, Room 211, 101 East 2nd Street, Rushville, IN 46173.
Town of Carthage | Rush County Courthouse, Area Plan Commission, Room 211, 101 East 2nd Street, Rushville, IN 46173.
Unincorporated Areas of Rush County | Rush County Courthouse, Area Plan Commission, Room 211, 101 East 2nd Street, Rushville, IN 46173.
Plymouth County, Massachusetts (All Jurisdictions)
Maps Available for Inspection Online at: http://www.starr-team.com/starr/RegionalWorkspaces/RegionI/PlymouthCountyMAMapMod
Town of Marion | Town House, 2 Spring Street, Marion, MA 02738.
Town of Mattapoisett | Town Hall, 16 Main Street, Mattapoisett, MA 02739.
Town of Wareham | Memorial Town Hall, 54 Marion Road, Wareham, MA 02571.
Cass County, North Dakota, and Incorporated Areas
Maps Available for Inspection Online at: http://www.bakeraecom.com/index.php/north-dakota/cass/
City of Argusville | City Hall, 201 North Highway 81, Argusville, ND 58005.
City of Briarwood | City Hall, 8 Briarwood Place, Briarwood, ND 58104.
City of Fargo | City Hall, 200 3rd Street North, Fargo, ND 58102.
City of Frontier | Frontier City Hall, 5202 32nd Street South, Fargo, ND 58104.
City of Harwood | City Hall, 114 Lind Boulevard, Harwood, ND 58042.
City of Horace | City Hall, 600 Nelson Drive, Horace, ND 58047.
City of North River | City Hall, 1409 Reed Drive, North River, ND 58102.
City of Oxbow | City Hall, 610 Evergreen Circle, Oxbow, ND 58047.
City of Prairie Rose | Prairie Rose City Hall, 3514 41st Avenue South, Fargo, ND 58104.
City of Reiles Acres | City Hall, 4635 35th Avenue North, Reiles Acres, ND 58102.
City of West Fargo | City Hall, 800 4th Avenue East, West Fargo, ND 58078.
Township of Barnes | Barnes Township Hall, 2715 Sheyenne Street, West Fargo, ND 58078.
Township of Harwood | Township Hall, 2935 170th Avenue Southeast, Harwood, ND 58042.
Township of Mapleton | Township Hall, 16522 41st Street Southeast, Mapleton, ND 58059.
Township of Pleasant | Pleasant Township Hall, 5060 173rd Avenue Southeast, Horace, ND 58047.
Township of Raymond | Raymond Township Hall, 16354 30th Street Southeast, Harwood, ND 58042.
Township of Reed | Reed Township Hall, 617 19th Avenue Northwest, West Fargo, ND 58078.
Township of Stanley | Stanley Township Hall, 7105 12th Street South, Fargo, ND 58104.
Township of Warren | Warren Township Hall, 4308 165th Avenue Southeast, Davenport, ND 58021.

(Catalog of Federal Domestic Assistance No. 97.022, “Flood Insurance.”)

Dated: November 9, 2012.
James A. Walke,
Acting Deputy Associate Administrator for Mitigation, Department of Homeland Security, Federal Emergency Management Agency.

[FR Doc. 2012-29697 Filed 12-7-12; 8:45 am]

BILLING CODE 9110-12-P